DEPARTMENT OF LABOR

Employment and Training Administration

[TA-W-74,551]

Vaughan Furniture Company, Galax, VA; Notice of Affirmative Determination Regarding Application for Reconsideration

By application dated November 4, 2010, a worker requested administrative reconsideration of the negative determination regarding workers' eligibility to apply for Trade Adjustment Assistance (TAA) applicable to workers and former workers of Vaughn Furniture Company, Galax, Virginia (subject firm). The determination was issued on October 5, 2010. The Department's Notice of Determination was published in the Federal Register on October 25, 2010 (75 FR 65520). The workers supply administrative and support services in support of furniture production at foreign facilities.

The initial investigation resulted in a negative determination based on the findings that subject firm sales increased during the relevant period and the subject firm did not shift to/acquire from a foreign country the supply of services like or directly competitive with those supplied by the subject workers. The investigation also revealed that the workers at the subject firm did not qualify to apply for TAA as adversely-affected secondary workers.

In the request for reconsideration, the worker states that he was part of the “B.C. Vaughn plant” and “should not be considered an administrative and support services worker.” The worker further states that his position “was essential to the production operation” because he was responsible for scheduling trucks used to move furniture from the production plant to the warehouse.

The Department of Labor has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC this 3rd day of December, 2010.
Del Min Amy Chen,
Certifying Officer, Office of Trade Adjustment Assistance.

[FR Doc. 2010-31134 Filed 12-10-10; 8:45 am]

BILLING CODE 4510-FN-P